DEPARTMENT OF HOUSING AND URBAN DEVELOPMENT

[Docket No. 4696-N-01]

Delegation of Authority From the Secretary of Housing and Urban Development to the Assistant Secretary for Housing—Federal Housing Commissioner to Serve on the Federal Housing Finance Board

AGENCY: Office of the Secretary, HUD.

ACTION: Notice of Delegation of Authority from the Secretary of Housing and Urban Development to the Assistant Secretary for Housing—Federal Housing Commissioner to serve on the Federal Housing Finance Board.

SUMMARY: The Secretary of Housing and Urban Development is delegating to the Assistant Secretary for Housing—Federal Housing Commissioner all of the Secretary's functions, powers, and duties as a director of the Federal Housing Finance Board.

EFFECTIVE DATE: August 1, 2001.

FOR FURTHER INFORMATION CONTACT: John P. Kennedy, Associate General Counsel for Finance and Regulatory Enforcement, Office of General Counsel, Department of Housing and Urban Development, 451 7th Street, SW., Washington, DC 20410, telephone (202) 708-2203. This is not a toll-free number. This number may be accessed via TTY by calling the Federal Information Relay Service at (800) 877-8339.

SUPPLEMENTARY INFORMATION: Section 2A(b)(1)(A) of the Federal Home Loan Bank Act (12 U.S.C. 1422a(d)(2)) as amended by Section 702(a) of Title VII of the Financial Institutions Reform, Recovery and Enforcement Act of 1989, provides that the Secretary of Housing and Urban Development shall serve as a director of the Federal Housing Finance Board. Under section 7(d) of the Department of Housing and Urban Development Act, 42 U.S.C. 3535(d), the Secretary of Housing and Urban Development may delegate any of the Secretary's functions, powers and duties to such officers and employees of the Department as the Secretary may designate. In the delegation of authority issued today, the Secretary is delegating to the Assistant Secretary for Housing—Federal Housing Commissioner all of the Secretary's functions, powers and duties as a director of the Federal Housing Finance Board.

Accordingly, the Secretary delegates as follows:

Section A. Authority Delegated

The Secretary of Housing and Urban Development delegates to the Assistant Secretary for Housing—Federal Housing Commissioner all of the Secretary's functions, powers and duties as a director of the Federal Housing Finance Board, under section 2A(b)(1)(A) of the Federal Home Loan Bank Act (12 U.S.C. 1422a(d)(2)) as amended by section 702(a) of Title VII of the Financial Institutions Reform, Recovery and Enforcement Act of 1989.

Section B. No Further Redelegation of Authority

The Assistant Secretary for Housing—Federal Housing Commissioner may not redelegate the authority delegated in Section A to any other official or employee of the Department of Housing and Urban Development.

Section C. Delegations of Authority Superseded

This Delegation of Authority supersedes all delegations of authority concerning this function prior to August 1, 2001, including the delegation of authority dated May 25, 1993 (58 FR 45910).

Authority: Sec. 2A(b)(1)(A), Federal Home Loan Bank Act (12 U.S.C. 1422a(d)(2)); sec. 7(d), Department of Housing and Urban Development Act (42 U.S.C. 3535(d)).

Dated: August 1, 2001.
Mel Martinez,
Secretary.

[FR Doc. 01-19653 Filed 8-6-01; 8:45 am]

BILLING CODE 4210-32-P